DEPARTMENT OF DEFENSE

Notice of the Defense Acquisition Performance Assessment Project Meetings

AGENCY: Department of Defense.

ACTION: Notice.

SUMMARY: Pursuant to the Federal Advisory Committee Act (FACA), Public Law 96-463, notice is hereby given that the Defense Acquisition Performance Assessment (DAPA) Project will hold a public meeting at the Anteon Conference Center, 1560 Wilson Blvd., Suite 400, Arlington, VA 22209, on October 29, 2005 from 9 a.m. to Noon.

Purpose: The Panel will meet during a public session on October 19, 2005 from 9 a.m. to Noon. Any interested citizens are encouraged to attend the meetings open to the public, subject to the availability of space.

Date: October 19, 2005.

Time: 9 a.m. to Noon.

Location: Anteon Conference Center, 1560 Wilson Blvd., Suite 400, Arlington, VA 22209.

For Further Information Contact: Any member of the public wishing further information concerning this meeting or wishing to submit comments must contact: Lt Col Rene Bergeron, Assistant Director of Staff, Defense Acquisition Performance Assessment Project, 1670 Air Force Pentagon, Rm 3A873, Washington, DC 20310-1010. Telephone: (703) 697-3420, Voice: (703) 697-3420, Fax: (703) 697-3511, rene.bergeron@pentagon.af.mil.

Interested persons may submit a written statement for consideration by the Panel, preferably via e-mail. Statements to the Panel must be directed to the point of contact listed above.

Dated: September 26, 2005.
L.M. Bynum,
Alternate OSD Federal Register Liaison Officer, Department of Defense.

[FR Doc. 05-19572 Filed 9-29-05; 8:45 am]

BILLING CODE 5001-06-M